DEPARTMENT OF THE INTERIOR

Bureau of Land Management

[NV-930-1430-ET; NVN-77821; 4-08807]

Notice of Proposed Withdrawal and Opportunity for Public Meeting; Nevada

AGENCY: Bureau of Land Management, Interior.

ACTION: Notice.

SUMMARY: The Bureau of Land Management has received a request from the United States Air Force to withdraw 1,979 acres of public land from surface entry and mining to protect support facilities for the safe and secure operation of national defense activities on the Nevada Test and Training Range. This notice segregates the land from surface entry and mining for up to 2 years while various studies and analyses are made to support a final decision on the withdrawal application.

DATES: Comments and requests for a meeting should be received on or before April 5, 2004.

ADDRESSES: Comments and meeting requests should be sent to the Nevada State Director, BLM, 1340 Financial Blvd., P.O. Box 12000, Reno, Nevada 89520-0006.

FOR FURTHER INFORMATION CONTACT: Dennis J. Samuelson, BLM Nevada State Office, 775-861-6532.

SUPPLEMENTARY INFORMATION: The United States Air Force has filed an application to withdraw the following described public land from settlement, sale, location, or entry under the general land laws, including the mining laws, but not the mineral leasing laws, subject to valid existing rights:

Mount Diablo Meridian

From the northwest corner of section 12, T. 5 N., R. 50 E., Proceed southeast 1,874.10 feet on a bearing of 155°48′00″ to starting point;

Thence southeast 5,551.20 feet on a bearing of 122°54′00″;

Thence northeast 15,530.30 feet on a bearing of 33°18′00″;

Thence northwest 5,551.20 feet on a bearing of 302°54′00″;

Thence southwest 15,530.30 feet on a bearing of 213°18′00″ to the starting point, excepting Tybo Road.

The area described contains 1,979 acres in Nye County.

The land would be withdrawn from settlement, sale, location, or entry under the general land laws, including the mining laws, but not the mineral leasing laws, to protect facilities that support the safe and secure operation of national defense activities on the Nevada Test and Training Range. Approximately 400 acres of the area are currently withdrawn by Public Land Order No. 6591, Parcel A (50 FR 10965-10966, FR Doc. 85-6479, March 19, 1985). Public Land Order No. 6591 will be allowed to expire as to Parcel A and will be replaced by this proposed withdrawal.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting.

Comments, including the names and street addresses of those who submitted them, will be available for public review at the Tonopah Field Station, 1553 South Main Street, Tonopah, Nevada, during regular business hours 7:30 a.m. to 4:30 p.m., Monday through Friday, except holidays. Individual respondents may request anonymity. If you wish to hold your name or address from public review or from disclosure under the Freedom of Information Act, you must state this prominently at the beginning of your comments. Such requests will be honored to the extent allowed by law. All submissions from organizations or businesses, will be made available for public inspection in their entirety.

The application will be processed in accordance with the regulations set forth in 43 CFR part 2300.

For a period of 2 years from January 5, 2004, in accordance with 43 CFR 2310.2(a), the land will be segregated from surface entry and mining, unless the application is denied or canceled, or the withdrawal is approved prior to that date. Other uses which will be permitted during this segregative period are rights-of-way, leases, and permits.

Dated: December 4, 2003.
Jim Stobaugh,
Lands Team Lead.

[FR Doc. 04-96 Filed 1-2-04; 8:45 am]

BILLING CODE 4310-HC-P